DEPARTMENT OF STATE

[Public Notice 7685]

Bureau of Political-Military Affairs; Statutory Debarment Under the Arms Export Control Act and the International Traffic in Arms Regulations

ACTION: Notice; Notice of Correction.

SUMMARY: Notice is hereby given that the Department of State has imposed statutory debarment pursuant to § 127.7(c) of the International Traffic in Arms Regulations (“ITAR”) (22 CFR parts 120 to 130) on persons convicted of violating or attempting to violate Section 38 of the Arms Export Control Act, as amended, (“AECA”) (22 U.S.C. 2778). Further, a public notice was published in the Federal Register on Tuesday, November 2, 1993, listing persons statutorily debarred pursuant to the ITAR; this notice makes one correction to that notice.

DATES: Effective Date: The effective date is the date of this notice.

FOR FURTHER INFORMATION CONTACT: Lisa Aguirre, Director, Office of Defense Trade Controls Compliance, Bureau of Political-Military Affairs, Department of State (202) 632-2798.

SUPPLEMENTARY INFORMATION: Section 38(g)(4) of the AECA, 22 U.S.C. 2778(g)(4), prohibits the Department of State from issuing licenses or other approvals for the export of defense articles or defense services where the applicant, or any party to the export, has been convicted of violating certain statutes, including the AECA. The statute permits limited exceptions to be made on a case-by-case basis. In implementing this provision, Section 127.7 of the ITAR provides for “statutory debarment” of any person who has been convicted of violating or conspiring to violate the AECA. Persons subject to statutory debarment are prohibited from participating directly or indirectly in the export of defense articles, including technical data, or in the furnishing of defense services for which a license or other approval is required.

Statutory debarment is based solely upon conviction in a criminal proceeding, conducted by a United States Court, and as such the administrative debarment procedures outlined in Part 128 of the ITAR are not applicable.

The period for debarment will be determined by the Assistant Secretary for Political-Military Affairs based on the underlying nature of the violations, but will generally be for three years from the date of conviction. Export privileges may be reinstated only at the request of the debarred person followed by the necessary interagency consultations, after a thorough review of the circumstances surrounding the conviction, and a finding that appropriate steps have been taken to mitigate any law enforcement concerns, as required by Section 38(g)(4) of the AECA. Unless export privileges are reinstated, however, the person remains debarred.

Department of State policy permits debarred persons to apply to the Director, Office of Defense Trade Controls Compliance, for reinstatement beginning one year after the date of the debarment. Any decision to grant reinstatement can be made only after the statutory requirements of Section 38(g)(4) of the AECA have been satisfied.

Exceptions, also known as transaction exceptions, may be made to this debarment determination on a case-by-case basis at the discretion of the Assistant Secretary of State for Political-Military Affairs, after consulting with the appropriate U.S. agencies. However, such an exception would be granted only after a full review of all circumstances, paying particular attention to the following factors: Whether an exception is warranted by overriding U.S. foreign policy or national security interests; whether an exception would further law enforcement concerns that are consistent with the foreign policy or national security interests of the United States; or whether other compelling circumstances exist that are consistent with the foreign policy or national security interests of the United States, and that do not conflict with law enforcement concerns. Even if exceptions are granted, the debarment continues until subsequent reinstatement.

Pursuant to Section 38(g)(4) of the AECA and Section 127.7(c) of the ITAR, the following persons are statutorily debarred as of the date of this notice (Name; Date of Conviction; District; Case No.; Month/Year of Birth):

(1) Heriberto Alanis-Ortiz; September 11, 2010; U.S. District Court, Southern District of Texas; Case No. 7:10CR00178-S1-001; January 1978.

(2) Amen Ahmed Ali, (aka Ali Amen Alrowhani, Amin Al Rohany, Ameen Alrohany); January 18, 2011; U.S. District Court, Eastern District of California; Case No. 1:06CR00292-001; June 1950.

(3) Rogelio Barajas; February 15, 2011; U.S. District Court, Northern District of Illinois; Case No. 09-CR-1058; August 1967.

(4) Brian William Barthrop; December 22, 2010; U.S. District Court, District of Arizona; Case No. CR-09-00731-001-TUC-RRC (CRP); October 1946.

(5) Jesse Ivan Cantu; March 15, 2011; U.S. District Court, Southern District of Texas; Case No. 1:10CR01201-002; December 1986.

(6) Charles Carper; October 20, 2010; U.S. District Court, District of Hawaii; Case No. 1:08CR00655-002; May 1986.

(7) Isaac Cervantes-Sanchez; February 24, 2011; U.S. District Court, Southern District of Texas; Case No. 7:10CR01331-S1-001; March 1981.

(8) Chitron Electronics, Inc.; February 9, 2011; U.S. District Court, District of Massachusetts; Case No. 1:08-CR-10386-004-PBS .

(9) Lawrence Davis (aka Larry Davis); April 23, 2009; U.S. District Court, Southern District of New York; Case No. 1:07-CR-1023-01(LAK); July 1945.

(10) Gwendolyn Douglas (aka Gwen Douglas); April 14, 2009; U.S. District Court, Southern District of New York; Case No. 07CR-1006; March 1955.

(11) Cesar Augusto Flores-Demara; February 14, 2011; U.S. District Court, District of Arizona; Case No. CR-10-01581-001-TUC-DCB(CRP); February 1974.

(12) Ernesto Gonzalez-Reyes; October 4, 2010; U.S. District Court, Southern District of Texas; Case No. 7:10CR00440-001; August 1961.

(13) Mythili Gopal; August 18, 2008; U.S. District Court, District of the District of Columbia; Case No. CR 07-0292-01; June 1970.

(14) Noshir S. Gowadia; February 4, 2011; U.S. District Court, District of Hawaii; Case No. 1:05CR00486-001; April 1944.

(15) Raul Gutierrez-Marroquin; February 17, 2011; U.S. District Court, Southern District of Texas; Case No. 1:10CR01201-001; May 1988.

(16) Fidel Jesus Hernandez; November 23, 2010; U.S. District Court, District of Arizona; Case No. CR-07-02111-002-TUC-DCB(CRP); February 1973.

(17) Boniface Ibe; July 12, 2011; U.S. District Court, District of Maryland; Case No. DKC-8-11-CR-00097-001; June 1961.

(18) Gong Kim; January 25, 2011; U.S. District Court, District of Oregon; Case No. CR-10-25-01-HA; August 1971.

(19) Mark Komoroski; July 29, 2010; U.S. District Court, Middle District of Pennsylvania; Case No. 3:CR08-228; July 1962.

(20) Chi Tong Kuok, (aka Edison Kuok, Eddy Kuok, James Kuok, Yoko Chong, Yoko Kawasaki); September 16, 2010; U.S. District Court, Southern District of California; Case No. 09CR2581-BEN; March 1967.

(21) Jose Lara; January 27, 2011; U.S. District Court, Southern District of Texas; Case No. 1:10CR00698-001; October 1983.

(22) Gregorio Larios, Jr.; March 17, 2011; U.S. District Court, Southern District of Texas; Case No. 1:10CR00742-001; November 1980.

(23) Sergio Rafael Lopez-Medina; March 15, 2011; U.S. District Court, Southern District of Texas; Case No. 1:10CR00699-002; August 1990.

(24) Xiaodong Sheldon Meng; June 24, 2008; U.S. District Court, Northern District of California; Case No. CR-04-20216-001-JF; January 1964.

(25) Chanoch Miller; January 7, 2011; U.S. District Court, Southern District of Florida; Case No. 0:10CR60177-COHN-2; December 1956.

(26) Jose Jesus Miramontes-Duarte; April 23, 2011; U.S. District Court, Southern District of Texas; Case No. 7:09CR00339-002; May 1951.

(27) Abraham Molina-Barron; May 13, 2011; U.S. District Court, District of Arizona; Case No. CR-10-02778-001-TUC-CKJ(HCE); December 1972.

(28) Jacques Monsieur; October 1, 2010; U.S. District Court, Southern District of Alabama; Case No. 09-00186-001-WS; March 1953.

(29) George Frank Myles Jr. (aka George Miles); November 10, 2008; U.S. District Court, Southern District of Florida; Case No. 07-20930-CR-UNGARO; September 1948.

(30) Emenike Charles Nwankwoala; January 6, 2011; U.S. District Court, District of Maryland; Case No. PJM-8-10-CR-00179-001; October 1960.

(31) Andrew V. O'Donnell; August 1, 2011; U.S. District Court, Northern District of Georgia; Case No. 1:10-CR-491-CAP; July 1997.

(32) Joseph O'Toole; December 14, 2010; U.S. District Court, Southern District of Florida; Case No. 0:10CR60177-COHN-1; May 1931.

(33) Sergio Perez-Contreras; August 2, 2011; U.S. District Court, Southern District of Texas; Case No. 7:09CR00339-001; March 1938

(34) Julio Cesar Ramirez; June 30, 2011; U.S. District Court, Southern District of Texas; Case No. 7:11CR00288-001; July 1989.

(35) Julio Salazar-Galan; October 22, 2010; U.S. District Court, Southern District of Texas; Case No. 1:10CR00400-001; July 1990.

(36) Juan Sauceda-Rangel; May 23, 2011; U.S. District Court, Southern District of Texas; Case No. 7:10CR01794-001; May 1981.

(37) Christian Sepulveda-Ortiz; December 17, 2010; U.S. District Court, District of Arizona; Case No. CR-10-02111-001-TUC-CKJ(DTF); June 1983.

(38) Parthasarathy Sudarshan; June 17, 2008; U.S. District Court, District of the District of Columbia; Case No. CR 08-0037; June 1960.

(39) Paul Taylor; March 18, 2011; U.S. District Court, District of Delaware; Case No. 09CR121-LPS; August 1966.

(40) Alain Teran; January 13, 2011; U.S. District Court, Southern District of Texas; Case No. 1:10CR00699-001; June 1986.

(41) Eduardo Torres; November 4, 2010; U.S. District Court, Southern District of Texas; Case No. 1:10CR00330-001; August 1980.

(42) Andrei Antonio Torres-Vasquez; November 15, 2010; U.S. District Court, Southern District of Texas; Case No. 7:10CR01111-001; December 1985.

(43) Stephanie Monique Townsend; August 24, 2010; U.S. District Court, Southern District of California; Case No. 09CR4271-MMA; January 1989.

(44) Rolando Trevino; June 10, 2011; U.S. District Court, Southern District of Texas; Case No. 7:10CR01793-001; August 1987.

(45) Universal Industries Limited, Inc.; August 22, 2011; U.S. District Court, Southern District of Florida; Case No. 9:11-80058-CR-MARRA-2.

(46) Yufeng Wei (aka Annie Wei); February 4, 2011; U.S. District Court, District of Massachusetts; Case No. 1:08-CR-10386-002-PBS; April 1964.

(47) Zhen Zhou Wu (aka Alex Wu); January 27, 2011; U.S. District Court, District of Massachusetts; Case No. 1:08-CR-10386-001-PBS; March 1964.

As noted above, at the end of the three-year period following the date of this notice, the above named persons/entities remain debarred unless export privileges are reinstated.

Debarred persons are generally ineligible to participate in activity regulated under the ITAR (see e.g., sections 120.1(c) and (d), and 127.11(a)). Also, under Section 127.1(c) of the ITAR, any person who has knowledge that another person is subject to debarment or is otherwise ineligible may not, without disclosure to and written approval from the Directorate of Defense Trade Controls, participate, directly or indirectly, in any export in which such ineligible person may benefit there from or have a direct or indirect interest therein.

Further, Federal Register document 93-26888, published at 58 FR 58586, Tuesday, November 2, 1993, is corrected on page 58586, line 50 through line 57 to read as follows:

1. Tsutomu Iida, 333 8th Maloka-Cho Totsuka-Ku, Kokohama, Japan, 18 U.S.C. 371 (conspiracy to violate 22 U.S.C. 2778), December 17, 1992, United States v. Japan Aviation Electronics Industry, Ltd., et al., U.S. District Court, District of Columbia, Criminal Docket No. 91-516-10.

That notice of statutory debarment incorrectly identified the debarred party as “Tsotomu Ida.”

This notice is provided for purposes of making the public aware that the persons listed above are prohibited from participating directly or indirectly in activities regulated by the ITAR, including any brokering activities and in any export from or temporary import into the United States of defense articles, related technical data, or defense services in all situations covered by the ITAR. Specific case information may be obtained from the Office of the Clerk for the U.S. District Courts mentioned above and by citing the court case number where provided.

Dated: November 8, 2011.
Andrew J. Shapiro,
Assistant Secretary, Bureau of Political-Military Affairs, Department of State.

[FR Doc. 2011-29470 Filed 11-14-11; 8:45 am]

BILLING CODE 4710-25-P